DEPARTMENT OF TRANSPORTATION

Federal Aviation Administration

Aviation Rulemaking Advisory Committee Meeting

AGENCY: Federal Aviation Administration (FAA), DOT.

ACTION: Notice of public meeting.

SUMMARY: This notice announces a public meeting of the FAA's Aviation Rulemaking Advisory Committee to discuss rotorcraft issues.

DATES: The meeting will be held on March 16, 2004, 8:30 a.m. PST.

ADDRESSES: The meeting will be held at the Las Vegas Convention Center, Room N-107, 3150 Paradise Road, Las Vegas, NV, 89109, telephone (702) 892-0711.

FOR FURTHER INFORMATION CONTACT: Caren Centorelli, Office of Rulemaking, ARM-200, FAA, 800 Independence Avenue, SW., Washington, DC 20591, telephone (202) 267-8199, e-mail caren.centorelli@faa.gov.

SUPPLEMENTARY INFORMATION: The referenced meeting is announced pursuant to Section 10(a)(2) of the Federal Advisory Committee Act (Pub. L. 92-463; 5 U.S.C. App. II).

The agenda will include:

• Working Group Status Reports.

• Fatigue Tolerance Evaluation of Metallic Structures.

• Damage Tolerance and Fatigue Evaluation of Composite Rotorcraft Structure.

• FAA Status Report.

• Performance and Handling Qualities Requirements Notice of Proposed Rulemaking.

• Critical Parts Advisory Circular Material Package.

Attendance is open to the interested public but will be limited to the space available. The public must make arrangements to present oral statements at the meeting. Written statements may be presented to the committee at any time by providing 16 copies to the Assistant Chair or by providing the copies at the meeting.

There will be no voting on tasks at this meeting. Thirty days after the meeting, minutes will be available on the FAA Web site at http://www2.faa.gov/avr/arm/arac/aracRotorcraft.cfm?nav=6.

If you are in need of assistance or require a reasonable accommodation for the meeting, please contact the person listed under the heading FOR FURTHER INFORMATION CONTACT. In addition, sign and oral interpretation, as well as a listening device, can be made available at the meeting if requested 10 calendar days before the meeting. Arrangements may be made by contacting the person listed under the heading FOR FURTHER INFORMATION CONTACT.

Issued in Washington, DC, on February 10, 2004.
Anthony F. Fazio,
Executive Director, Aviation Rulemaking Advisory Committee.

[FR Doc. 04-3499 Filed 2-18-04; 8:45 am]

BILLING CODE 4910-13-P